NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Joyce Jatko, Acting Permit Officer, Office of Polar Programs, Rm. 755, National Science Foundation, 4201 Wilson Boulevard, Arlington, VA 22230.

SUPPLEMENTARY INFORMATION: On December 23, 1999, the National Science Foundation published a notice in the Federal Register of permit applications received. A permit was issued on January 21, 2000 to Mimi Wallace, Permit No. 2000-023. A permit was issued on January 22, 2000 to Christian H. Fritsen, Permit No. 2000-024.

Joyce Jatko,
Acting Permit Officer.

[FR Doc. 00-2357 Filed 2-2-00; 8:45 am]

BILLING CODE 7555-01-M